DEPARTMENT OF AGRICULTURE

Forest Service

Snow King Mountain Resort On-mountain Improvements Project Environmental Impact Statement, Bridger-Teton National Forest, Jackson Ranger District, Teton County, Wyoming

AGENCY: Forest Service, USDA.

ACTION: Notice of intent to prepare an environmental impact statement.

SUMMARY: The Forest Service has accepted a master development plan from Snow King Mountain Resort. The master development plan is a multi-year plan for improvement and expansion of facilities at the resort, which operates in part under special use permit with the Forest Service. The proposed action is to update existing facilities and develop new winter and summer recreation opportunities. The Forest Service is considering the authorization of a permit boundary expansion, building a multi-function guest services building on the summit of Snow King Mountain, adding additional ski lifts and lift upgrades, building new ski runs and improving existing runs, expanding and improving snowmaking and night-lighting coverage, building a mountain bike park and trail system, adding hiking trails, and building additional service facilities.

DATES: Comments concerning the scope of the analysis must be received by within 30 days from date of publication of this notice in the Federal Register. The draft environmental impact statement is expected February 2019 and the final environmental impact statement is expected July 2019.

ADDRESSES: Electronic comments are encouraged. Please address any form of comments as “Attention: SKMR On-mountain Improvement Projects.” Electronic comments should be submitted in rich text format (.rtf) or Word (.doc) to comments-intermtn-bridger-teton-jackson@fs.fed.us. Written comments should be submitted to: Bridger-Teton National Forest—Jackson Ranger District, P.O. Box 1689, Jackson, WY 83001—attention Mary Moore. Comments may be hand-delivered to 340 N. Cache St. between 8:00 a.m. and 4:30 p.m., Monday through Friday, excluding holidays.

FOR FURTHER INFORMATION CONTACT: Mary Moore, Jackson District Ranger, marymoore@fs.fed.us or (307) 739-5410. Individuals who use telecommunication devices for the deaf (TDD) may call the Federal Information Relay Service (FIRS) at 1-800-877-8339 between 8:00 a.m. and 8:00 p.m., Eastern Time, Monday through Friday.

SUPPLEMENTARY INFORMATION: Snow King Mountain Resort's multi-year master development plan proposes improvements and expansion of facilities at the resort, which operates in part under special use permit with the Forest Service. This Notice of Intent initiates the scoping period for this project and allows the Forest Service to provide background information, the project's purpose and need, the proposed actions, preliminary issues, the scoping process, cooperating agencies, the responsible official, and the decision to be made. These details are outlined below.

Background

Snow King Mountain Resort was one of the original ski areas to be permitted on National Forest Land and has been in operation for more than seventy years. The resort is adjacent to the southern boundary of the town of Jackson, Teton County, Wyoming, and is known locally as the “Town Hill.” Roughly the lower quarter of the resort is private land where base-area facilities (e.g. Snow King Resort Hotel, rental condominiums, ticket sales, equipment rental, food service, and parking), the bottom terminals and lower portions of the resort's three chairlifts and associated ski terrain, and summer recreational infrastructure (e.g. alpine slide, mountain coaster, and ropes course) are located. The upper three-quarters of the resort are on National Forest System land (338 acres in the permit area) that comprises the three chairlift top terminals, ski terrain, and service roads.

The resort's ski terrain totals about 400 acres, including about 135 acres of developed ski runs and 265 acres of natural openings and tree skiing areas, between and around the developed runs. The resort's snowmaking system includes much of the ski terrain on both private and public land, and night lighting covers roughly the lower half of the existing slopes.

Purpose and Need

Two emerging developments in the mountain resort industry underlie the purpose and need for the proposed action. First, extensive customer surveys conducted by the ski industry indicate that visitors are increasingly seeking a more diverse range of recreational activities, particularly for families, that includes year-round opportunities and activities that are more adventurous. The Forest Service response to this trend includes our 2012 introduction of the Framework for Sustainable Recreation, which sets goals for providing a diverse array of recreational opportunities aimed at connecting people with the outdoors and promoting healthy lifestyles, in partnership with other public and private recreation providers.

Second, passage of the Ski Area Recreational Opportunity Enhancement Act of 2011 provides direction on the types of summer activities the Forest Service should consider authorizing to round out the range of opportunities provided to the public at permitted mountain resorts.

Reflecting these considerations, the purposes to be achieved through the proposed action are:

• To maintain and improve the winter sport infrastructure on National Forest System lands at Snow King Mountain Resort.

• To provide new and innovative forms of year-round outdoor recreation for residents and visitors to Jackson Hole, using the existing resort infrastructure as the hub.

• To capitalize on the established relationship between the Bridger-Teton National Forest and Snow King Mountain Resort that connects visitors with the natural environment and supports the quality of life and the economy of the local community.

The needs that must be resolved in order to achieve these purposes include:

• Improve and increase beginner and intermediate ski terrain, lifts, and facilities to serve as the primary ski resort in Jackson, WY to introduce and recruit new skiers to the sport.

• Expand snowmaking on the mountain to enable an early November opening for ski race training, provide coverage to the upper mountain, and aid in fire prevention.

• Introduce high-quality guest service facilities to attract and retain local and destination skiers, serve as an event venue, and provide an outdoor education center for Jackson residents and visitors.

• Provide access to a wide range of year-round activities catering to a variety of visitors passing through the Town of Jackson.

Proposed Action

The Bridger-Teton National Forest proposes to authorize Snow King Mountain Resort to implement the following projects on National Forest System lands in Teton County, Wyoming under a special use permit:

• A new ski school/teaching center on the ridgeline west of the Snow King summit.

• Development of skiing in the natural bowl on the back side, south of the Snow King summit. This southernmost portion of the current special use permit area is suitable for development of low-intermediate and intermediate level ski terrain, complementing the summit teaching center.

• A 67-acre special use permit boundary adjustment on the front side, east of the existing permit area, to accommodate part of a summit access road/novice skiway, intermediate-level terrain lower on the slope (including groomed runs and tree and glade skiing), and a novice route down from Rafferty lift (via the access road/novice skiway).

• An 89-acre special use permit boundary adjustment on the front side, west of the existing permit area, to accommodate a summit teaching center, another part of the summit access road/novice skiway, and to accommodate expert-level tree and glade skiing.

• New ski terrain totaling about 97.5 acres (groomed runs and teaching terrain).

• Upgrading the existing Summit lift to a gondola, and installation of one new chair lift, two teaching area conveyors, and one surface lift.

• On-mountain facilities (the summit restaurant/guest services building and ski patrol facility, a temporary ski patrol building at the top of Cougar, an observatory and planetarium at the summit, a wedding venue west of the summit building, and a year-round yurt camp at the southern point of the special use permit area).

• 147.1 acres of added snowmaking (with few exceptions, all existing and proposed runs).

• Improved and expanded lighting for night skiing.

• Front-side mountain bike trails and a back-side mountain bike zone.

• Hiking trails between the summit and the west base, west of Exhibition run.

• A zip line from the summit to the west base area, paralleling the Summit lift.

A more detailed description of the proposed action, including maps, is available at: http://www.fs.usda.gov/project/?project=54202.

Preliminary Issues

Preliminary issues include potential effects on watershed resources, local plant and animal species, scenic integrity, socioeconomics, and other recreational use.

Scoping Process

This notice of intent initiates the scoping process, which guides the development of the environmental impact statement. In addition, a public open house is proposed for 2019 during the formal comment period on the draft environmental impact statement.

It is important that reviewers provide their comments at such times and in such manner that they are useful to the agency's preparation of the environmental impact statement. Therefore, comments should be provided prior to the close of the comment period and should clearly articulate the reviewer's concerns and contentions.

Comments received in response to this solicitation, including the names and addresses of those who comment, will be part of the public record for this proposed action. Comments submitted anonymously will be accepted and considered.

Lead and Cooperating Agencies

The Forest Service will be the lead federal agency, in accordance with 40 Code of Federal Regulations (CFR) 1501.5(b), and is responsible for the preparation of the environmental impact statement. The Town of Jackson is a cooperating agency. Scoping will determine if any additional cooperating agencies are needed.

Responsible Official

Patricia O'Conner, Forest Supervisor, Bridger-Teton National Forest.

Nature of Decision To Be Made

The responsible official will decide whether to authorize Snow King Mountain Resort to implement the actions, as proposed in the master development plan, in full, part or modified, or to take no action. If the decision is to authorize Snow King Mountain Resort's actions in a special use permit, then the responsible official will also decide what design features and monitoring will be required.

Dated: July 9, 2018.
Chris French,
Associate Deputy Chief, National Forest System.

[FR Doc. 2018-16559 Filed 8-2-18; 8:45 am]

BILLING CODE 3411-15-P